DEPARTMENT OF THE INTERIOR

National Park Service

Lake Meredith National Recreation Area and Alibates Flint Quarries National Monument, Texas

AGENCY: National Park Service, Department of the Interior.

ACTION: Notice of availability of a Record of Decision on the Final Environmental Impact Statement/Oil and Gas Management Plan for Lake Meredith National Recreation Area and Alibates Flint Quarries National Monument, Potter, Hutchinson, and Moore Counties, Texas.

SUMMARY: On September 26, 2002, the Director, Intermountain Region, approved the Record of Decision for the project. As soon as practical, the National Park Service will begin to implement the Oil and Gas Management Plan as described as the Preferred Alternative (Alternative B) contained in the FEIS issued on August 9, 2002. In the Preferred Alternative, all areas of the two NPS units would be formally designated as Special Management Areas (SMA's), and specific operating stipulations would be applied. While this alternative was not deemed to be the environmentally preferred alternative, it was determined to best accomplish the legislated purposes of the two NPS units by balancing the statutory mission of the NPS to provide long-term protection to the NPS units' resources and significance, while allowing for the exercise of rights to oil and gas not owned by the United States. It was also determined that implementation of the Preferred Alternative will not constitute an impairment of park resources and values. This course of action and two alternatives were analyzed in the Draft and Final Environmental Impact Statements. The full range of foreseeable environmental consequences was assessed, and appropriate mitigating measures identified.

The full Record of Decision includes a statement of the decision made; synopses of the alternatives considered, a description of the environmentally preferable alternative; the decision rationale used in selecting the alternative; a finding on impairment of park resources and values; a description of mitigation measures and monitoring plans that will be implemented for the selected alternative; a statement that addresses how all practical means to avoid or minimize environmental harm from the selected alternative have been adopted; and a description of public involvement in the decision-making process.

Basis for Decision

In reaching its decision to select the preferred alternative, the National Park Service considered the purposes for which the two NPS units were established, and other laws and policies that apply to lands in the units, including the Organic Act, National Environmental Policy Act, and the NPS Management Policies. The National Park Service also carefully considered public comments received during the planning process.

FOR FURTHER INFORMATION CONTACT: Karren Brown, Superintendent, Lake Meredith National Recreation Area and Alibates Flint Quarries National Monument, P.O. Box 1460, Fritch, TX 79036, Telephone: 806-857-3131.

SUPPLEMENTARY INFORMATION: A limited number of individual copies of the Record of Decision may be obtained from the Superintendent listed above.

Dated: September 26, 2002.
Karen Wade,
Director, Intermountain Region, National Park Service.

[FR Doc. 02-30487 Filed 12-2-02; 8:45 am]

BILLING CODE 4310-70-P